DEPARTMENT OF LABOR

Occupational Safety and Health Administration

29 CFR Part 1910

[Docket No. H-016]

RIN 1218-AC11

Occupational Exposure to Ionizing Radiation

AGENCY: Occupational Safety and Health Administration (OSHA), Department of Labor.

ACTION: Request for information; extension of comment period.

SUMMARY: The Occupational Safety and Health Administration (OSHA) is extending the deadline for commenting on the Request for Information (RFI) on Ionizing Radiation for 120 days, from August 1 to November 28, 2005. OSHA is extending the comment deadline to give stakeholders adequate time to comment on the Biological Effects of Ionizing Radiation (BEIR) VII report on health risks for exposure to low levels of ionizing radiation, which was not issued until June 29, 2005.

DATES: Comments must be submitted by the following dates:

Hard copy: Your comments must be submitted (postmarked or sent) by November 28, 2005.

Facsimile and electronic transmission: Your comments must be sent by November 28, 2005.

ADDRESSES: You may submit comments, identified by OSHA Docket No. H-016, by any of the following methods:

Federal eRulemaking Portal: http://www.regulations.gov. Follow the instructions below for submitting comments.

Agency Web site: http://ecomments.osha.gov. Follow the instructions on the OSHA Web page for submitting comments.

Fax: If your comments, including any attachments, are 10 pages or fewer, you may fax them to the OSHA Docket Office at (202) 693-1648.

Mail, express delivery, hand delivery and courier service: You must submit three copies of your comments and attachments to the OSHA Docket Office, Docket H-016, Room N-2625, U.S. Department of Labor, 200 Constitution Avenue, NW., Washington, DC 20210; telephone (202) 693-2350 (OSHA's TTY number is (877) 889-5627). OSHA Docket Office and Department of Labor hours of operations are 8:15 a.m. to 4:45 p.m., e.s.t. Because of security-related problems, there may be a significant delay in the receipt of comments by regular mail. Please contact the OSHA Docket Office at the address above for information about security procedures concerning the delivery of materials by express delivery, hand delivery and courier service.

Instructions: All submissions received must include the Agency name and docket number (H-016). All comments received will be posted without change on OSHA's Web page at http://www.osha.gov, including any personal information provided. OSHA cautions you about submitting personal information such as social security numbers and birth dates. Contact the OSHA Docket Office for information about materials not available through the OSHA Web page and for assistance in using the Web page to locate docket submissions.

All comments and submissions are available for inspection and copying at the OSHA Docket Office at the above address. Comments and submissions as well as electronic copies of this Federal Register notice, news releases and other relevant documents, are also available on OSHA's Web page.

FOR FURTHER INFORMATION CONTACT: Press inquiries: Kevin Ropp, OSHA Office of Communications, Room N-3647, U.S. Department of Labor, 200 Constitution Avenue, NW., Washington, DC 20210; telephone: (202) 693-1999.

General and technical information: Dorothy Dougherty, Acting Director, OSHA Directorate of Standards and Guidance, Room N-3718, U.S. Department of Labor, 200 Constitution Avenue, NW., Washington, DC 20210; telephone: (202) 693-1950.

SUPPLEMENTARY INFORMATION: OSHA published a notice on May 3, 2005, requesting data, information and comments on issues related to the increasing use of ionizing radiation in the workplace and potential worker exposure to it (70 FR 22828). Specifically, OSHA requested data and information about the sources and uses of ionizing radiation in workplace today, current employee exposure levels, and adverse health effects associated with ionizing radiation exposure. OSHA also requested data and information about practices and programs employers are using to control employee exposure, such as exposure assessment and monitoring methods, control methods, employee training, and medical surveillance. OSHA set a deadline of August 1, 2005, to submit comments.

On June 29, 2005, the National Academies released its report titled “BEIR VII: Health Risks from Exposure to Low Levels of Ionizing Radiation.” The BEIR VII report presents the most up-to-date and comprehensive risk estimates for cancer and other health effects from exposure low-level ionizing radiation. It is among the first reports of its kind to include a detailed estimate for cancer incidence in addition to cancer mortality. The BEIR VII committee reviewed epidemiological studies concerning individuals who had been exposed to ionizing radiation because of medical, occupational, or environmental reasons, including studies of the atomic-bomb survivor cohort in Hiroshima and Nagasaki, Japan. A major task of the committee was to develop an approach for estimating cancer risks from exposure to low levels of low energy transfer ionizing radiation.

The work of past BEIR Committees has been significant in the radiation standard-setting process. The Agency believes it is crucial that stakeholders, in preparing their comments, have sufficient time to fully review the information and issues on the health effects of ionizing radiation presented in the BEIR VII report. Accordingly, to facilitate this OSHA is extending the deadline for submitting comments for an additional 120 days until November 28, 2005.

Authority and Signature

This document was prepared under the direction of Jonathan L. Snare, Acting Assistant Secretary of Labor for Occupational Safety and Health, U.S. Department of Labor. It is issued pursuant to sections 4, 6, and 8 of the Occupational Safety and Health Act of 1970 (29 U.S.C. 653, 655, 657), 29 CFR part 1911, and Secretary of Labor's Order 5-2002 (67 FR 65008).

Issued at Washington, DC, this 26 day of July 2005.
Jonathan L. Snare,
Acting Assistant Secretary of Labor.

[FR Doc. 05-15119 Filed 7-29-05; 8:45 am]

BILLING CODE 4910-26-P